DEPARTMENT OF COMMERCE

International Trade Administration

[Application No. 94-7A007]

Export Trade Certificate of Review

ACTION: Notice of Application to Amend the Export Trade Certificate of Review for Florida Citrus Exports, L.C. (“FCE”), Application no. 94-7A007.

SUMMARY: The Office of Trade and Economic Analysis (“OTEA”) of the International Trade Administration, Department of Commerce, has received an application for an amended Export Trade Certificate of Review (“Certificate”). This notice summarizes the proposed application and requests comments relevant to whether the Certificate should be issued.

FOR FURTHER INFORMATION CONTACT: Joseph Flynn, Director, Office of Trade and Economic Analysis, International Trade Administration, (202) 482-5131 (this is not a toll-free number) or email at etca@trade.gov.

SUPPLEMENTARY INFORMATION: Title III of the Export Trading Company Act of 1982 (15 U.S.C. 4001-21) (“the Act”) authorizes the Secretary of Commerce to issue Export Trade Certificates of Review. A Certificate protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

Written comments should be sent to ETCA@trade.gov. An original and five (5) copies, plus two (2) copies of the nonconfidential version, should also be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary, for determining whether or not to issue the Certificate. Comments should refer to this application as “Export Trade Certificate of Review, application number 94-7A007.”

A summary of the application follows.

Summary of the Application

Applicant: Florida Citrus Exports, L.C., 7355 SW 9th Street, Vero Beach, Florida, 32968.

Contact: William M. Stainton, Esq., Attorney; Email: wms@macfar.com.

Application No.: 94-7A007.

Date Deemed Submitted: April 14, 2021.

FCE seeks to amend its Certificate as follows:

1. Add the following entity as a new Member of the Certificate within the meaning of section 325.2(1) of the Regulations (15 CFR 325.2(1)):

○ Heller Brothers Packing Corp., Winter Garden, Florida

2. Remove the following entities as Members of the Certificate:

○ Hogan and Sons, Inc., Vero Beach, Florida

○ Leroy E. Smith's Sons, Inc., Vero Beach, Florida

○ Seald Sweet LLC, Vero Beach, Florida

FCE's proposed amendment would result in the following list of Members under the Certificate:

Egan Fruit Packing, LLC, Ft. Pierce, Florida

Golden River Fruit Co., Vero Beach, Florida

Heller Brothers Packing Corp., Winter Garden, Florida

Indian River Exchange Packers, Inc., Vero Beach, Florida

The Packers of Indian River, Ltd., Ft. Pierce, Florida

Premier Citrus Marketing, LLC, Vero Beach, Florida

River One International Marketing, Inc., Vero Beach, Florida

Riverfront Packing Co. LLC, Vero Beach, Florida

Dated: April 23, 2021.
Joseph Flynn,
Director, Office of Trade and Economic Analysis, International Trade Administration, U.S. Department of Commerce.

[FR Doc. 2021-08910 Filed 4-28-21; 8:45 am]

BILLING CODE 3510-DR-P